DEPARTMENT OF ENERGY

Federal Energy Regulatory Commission

Combined Notice of Filings #1

Take notice that the Commission received the following electric rate filings:

Docket Numbers: ER16-2091-000; EL16-114-000.

Applicants: Idaho Power Company.

Description: Response of Idaho Power Company to October 10, 2016 Show Cause Order.

Filed Date: 11/30/16.

Accession Number: 20161130-5296.

Comments Due: 5 p.m. ET 7/12/17.

Docket Numbers: ER17-1193-000.

Applicants: Otter Tail Power Company.

Description: Report Filing: Submission of Refund Report to be effective N/A.

Filed Date: 6/21/17.

Accession Number: 20170621-5043.

Comments Due: 5 p.m. ET 7/12/17.

Docket Numbers: ER17-1874-000.

Applicants: Southwest Power Pool, Inc.

Description: § 205(d) Rate Filing: 2415R6 Kansas Municipal Energy Agency NITSA and NOA to be effective 6/1/2017.

Filed Date: 6/21/17.

Accession Number: 20170621-5002.

Comments Due: 5 p.m. ET 7/12/17.

Docket Numbers: ER17-1875-000.

Applicants: Southwest Power Pool, Inc.

Description: § 205(d) Rate Filing: 3114R3 Resale Power Group of Iowa to be effective 6/1/2017.

Filed Date: 6/21/17.

Accession Number: 20170621-5050.

Comments Due: 5 p.m. ET 7/12/17.

Docket Numbers: ER17-1876-000.

Applicants: Midcontinent Independent System Operator, Inc., Otter Tail Power Company.

Description: § 205(d) Rate Filing: 2017-06-21 SA 3020 OTP-OTP E&P (J510) to be effective 6/2/2017.

Filed Date: 6/21/17.

Accession Number: 20170621-5071.

Comments Due: 5 p.m. ET 7/12/17.

Take notice that the Commission received the following electric securities filings:

Docket Numbers: ES17-37-000.

Applicants: The Connecticut Light and Power Company, Western Massachusetts Electric Company.

Description: Application of The Connecticut Light and Power Company and Western Massachusetts Electric Company to Issue Short-Term Debt Securities.

Filed Date: 6/20/17.

Accession Number: 20170620-5159.

Comments Due: 5 p.m. ET 7/11/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 21, 2017.
Nathaniel J. Davis, Sr.,
Deputy Secretary.

[FR Doc. 2017-13392 Filed 6-26-17; 8:45 am]

BILLING CODE 6717-01-P